OFFICE OF PERSONNEL MANAGEMENT

Excepted Service

AGENCY: U.S. Office of Personnel Management (OPM).

ACTION: Notice.

SUMMARY: This notice identifies Schedule A, B, and C appointing authorities applicable to a single agency that were established or revoked from June 1, 2019 to June 30, 2019.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during June 2019.

Schedule B

No Schedule B Authorities to report during June 2019.

Schedule C

The following Schedule C appointing authorities were approved during June 2019.

Agency name | Organization name | Position title | Authorization No. | Effective date
DEPARTMENT OF AGRICULTURE | Office of Communications | Press Secretary | DA190150 | 06/11/2019
| Farm Service Agency | State Executive Director—California | DA190161 | 06/20/2019
|  | Confidential Assistant | DA190157 | 06/28/2019
| Office of Foreign Agricultural Service | Senior Advisor | DA190155 | 06/18/2019
| Office of the General Counsel | Advisor | DA190156 | 06/18/2019
| Office of the Secretary | Senior Advisor | DA190165 | 06/28/2019
| Office of the Under Secretary for Farm Production and Conservation | Policy Advisor | DA190163 | 06/28/2019
| Office of Rural Housing Service | State Director—Arizona | DA190147 | 06/13/2019
DEPARTMENT OF COMMERCE | Office of the Assistant Secretary for Enforcement and Compliance | Special Assistant | DC190109 | 06/25/2019
| Office of Legislative and Intergovernmental Affairs | Deputy Director of Legislative Affairs | DC190106 | 06/25/2019
|  | Congressional and Intergovernmental Affairs Specialist | DC190108 | 06/25/2019
| Office of Public Affairs | Director of Speechwriting and Senior Advisor | DC190114 | 06/25/2019
| Office of the Under Secretary | Senior Advisor | DC190112 | 06/25/2019
| Office of White House Liaison | Confidential Assistant | DC190104 | 06/25/2019
| Patent and Trademark Office | Deputy Chief Communications Officer | DC190113 | 06/28/2019
COMMISSION ON CIVIL RIGHTS | Office of Staff Members | Special Assistant | CC190001 | 06/18/2019
| Office of Commissioners | Special Assistant | CC180002 | 06/25/2019
DEPARTMENT OF DEFENSE | Office of the Chief Management Officer | Special Assistant | DD190144 | 06/13/2019
| Office of the Deputy Under Secretary for Policy | Special Assistant | DD190111 | 06/05/2019
| Office of the Secretary of Defense | Speechwriter | DD190123 | 06/03/2019
| Office of the Under Secretary of Defense (Acquisition and Sustainment) | Special Assistant | DD190143 | 06/11/2019
| Office of the Under Secretary of Defense (Policy) | Special Assistant (2) | DD190139 DD190140 | 06/19/2019 06/20/2019
DEPARTMENT OF THE ARMY | Office Deputy Under Secretary of Army | Special Assistant | DW190045 | 06/26/2019
DEPARTMENT OF EDUCATION | Office of the Secretary | Confidential Assistant for Policy | DB190102 | 06/05/2019
| Office of Elementary and Secondary Education | Confidential Assistant | DB190105 | 06/13/2019
| Office of the General Counsel | Attorney Adviser | DB190107 | 06/19/2019
DEPARTMENT OF ENERGY | Office of the Assistant Secretary for Electricity Delivery and Energy Reliability | Special Advisor Special Assistant | DE190135 DE190134 | 06/25/2019 06/28/2019
| Office of National Nuclear Security Administration | Special Advisor | DE190131 | 06/25/2019
| Office of Cybersecurity, Energy Security and Emergency Response | Special Advisor | DE190137 | 06/26/2019
| Office of Management | Senior Advisor Special Advisor | DE190129 DE190126 | 06/06/2019 06/20/2019
| Office of Policy | Special Assistant | DE190125 | 06/05/2019
| Office of Public Affairs | Special Advisor Writer-Editor (Chief Speechwriter) | DE190132 DE190140 | 06/25/2019 06/26/2019
| Office of Science | Chief of Staff | DE190144 | 06/26/2019
ENVIRONMENTAL PROTECTION AGENCY | Office of the Assistant Administrator for International and Tribal Affairs | Director, American Indian Environmental Office | EP190082 | 06/05/2019
| Office of Public Affairs | Special Advisor | EP190102 | 06/19/2019
EXPORT-IMPORT BANK | Office of the Chief of Staff | Executive Secretary | EB190007 | 06/05/2019
| Office of the Chairman | Director of Scheduling | EB190008 | 06/05/2019
| Office of Communications | Press Secretary | EB190010 | 06/17/2019
| Office of External Engagement | Senior Vice President for External Engagement | EB190011 | 06/18/2019
GENERAL SERVICES ADMINISTRATION | Office of General Counsel | Senior Counsel | GS190034 | 06/25/2019
DEPARTMENT OF HEALTH AND HUMAN SERVICES | Office of the Administration for Children and Families | Communications Director | DH190203 | 06/25/2019
| Centers for Medicare and Medicaid Services | Senior Advisor for External Affairs | DH190172 | 06/05/2019
|  | Senior Advisor | DH190086 | 06/07/2019
| Office of Food and Drug Administration | Counselor | DH190101 | 06/07/2019
| Office of Intergovernmental and External Affairs | Special Assistant | DH190187 | 06/26/2019
| Office of Refugee Resettlement/Office of the Director | Policy Advisor | DH190096 | 06/07/2019
| Office of the Assistant Secretary for Financial Resources | Director—Appropriations Liaison | DH190111 | 06/07/2019
| Office of the Assistant Secretary for Legislation | Special Assistant (2) | DH190184 DH190185 | 06/25/2019 06/25/2019
| Office of the Assistant Secretary for Public Affairs | Senior Advisor and National Spokesperson | DH190198 | 06/25/2019
| Office of the General Counsel | Associate Deputy General Counsel | DH190175 | 06/06/2019
|  | Assistant Deputy General Counsel | DH190178 | 06/13/2019
| Office of the Secretary | Special Advisor Special Assistant | DH190118 DH190164 | 06/05/2019 06/11/2019
|  | White House Liaison for Political Personnel, Boards and Commissions | DH190200 | 06/21/2019
|  | Director of Drug Pricing Reform | DH190205 | 06/25/2019
DEPARTMENT OF HOMELAND SECURITY | Office of the Chief of Staff | Special Assistant | DM190227 | 06/10/2019
|  | Advance Representative | DM190230 | 06/13/2019
| Office of the Assistant Secretary for Policy | Confidential Assistant, Border, Immigration and Trade Policy | DM190234 | 06/28/2019
| Office of the United States Citizenship and Immigration Services | Senior Advisor | DM190236 | 06/28/2019
| Office of Countering Weapons of Mass Destruction | Special Assistant | DM190239 | 06/28/2019
DEPARTMENT OF HOUSING AND URBAN DEVELOPMENT | Office of Administration | Briefing Book Coordinator | DU190083 | 06/26/2019
DEPARTMENT OF THE INTERIOR | Office of Surface Mining | Senior Advisor | DI190060 | 06/05/2019
| Secretary's Immediate Office | Writer | DI190071 | 06/19/2019
DEPARTMENT OF JUSTICE | Office of Legal Policy | Counsel | DJ190090 | 06/13/2019
| Office of Civil Rights Division | Special Assistant | DJ190084 | 06/18/2019
DEPARTMENT OF LABOR | Office of Employment and Training Administration | Senior Policy Advisor | DL190074 | 06/05/2019
|  | Senior Counsel | DL190104 | 06/25/2019
|  | Deputy Chief of Staff | DL190110 | 06/25/2019
| Office of Mine Safety and Health Administration | Senior Policy Advisor | DL190082 | 06/10/2019
| Office of Congressional and Intergovernmental Affairs | Case Officer Legislative Officer | DL190094 DL190083 | 06/10/2019 06/18/2019
|  | Intergovernmental Officer | DL190096 | 06/19/2019
| Office of the Assistant Secretary for Policy | Senior Counsel and Policy Advisor | DL190118 | 06/25/2019
| Office of the Deputy Secretary | Special Assistant and Policy Advisor | DL190117 | 06/25/2019
| Office of the Secretary | Special Assistant and Policy Advisor | DL190113 | 06/25/2019
|  | Special Assistant | DL190119 | 06/28/2019
| Office of Workers Compensation Programs | Chief of Staff | DL190076 | 06/06/2019
| Office of Wage and Hour Division | Senior Policy Advisor (2) | DL190075 DL190095 | 06/07/2019 06/13/2019
NATIONAL AERONAUTICS AND SPACE ADMINISTRATION | Office of Communications | Speechwriter | NN190032 | 06/05/2019
NATIONAL ENDOWMENT FOR THE ARTS | National Endowment for the Arts | Confidential Assistant | NA190008 | 06/13/2019
|  | Director of Congressional Affairs | NA190010 | 06/20/2019
OFFICE OF MANAGEMENT AND BUDGET | Office of Communications | Press Assistant Press Secretary (2) | BO190026 BO190032 BO190031 | 06/13/2019 06/19/2019 06/27/2019
| Office of General Counsel | Associate General Counsel | BO190028 | 06/27/2019
| Office of Legislative Affairs | Deputy for Legislative Affairs (Appropriations) | BO190025 | 06/13/2019
OFFICE OF PERSONNEL MANAGEMENT | Office of Congressional, Legislative, and Intergovernmental Affairs | Legislative Analyst | PM190040 | 06/30/2019
SECURITIES AND EXCHANGE COMMISSION | Office of the Chairman | Confidential Assistant | SE190005 | 06/13/2019
| Office of Public Affairs | Deputy Director, Office of Public Affairs | SE190007 | 06/24/2019
SMALL BUSINESS ADMINISTRATION | Office of Capital Access | Special Assistant | SB190025 | 06/26/2019
DEPARTMENT OF STATE | Office of the Under Secretary for Economic Growth, Energy, and the Environment | Senior Advisor | DS190065 | 06/05/2019
| Office of the Chief of Protocol | Protocol Officer (Gifts) | DS190110 | 06/25/2019
DEPARTMENT OF TRANSPORTATION | Office of the Administrator | Special Assistant for Policy, Governmental and Public Affairs (2) | DT190093 DT190094 | 06/13/2019 06/14/2019
|  | Director of Governmental Affairs | DT190090 | 06/18/2019
|  | Governmental Affairs Officer | DT190099 | 06/28/2019
| Office of the Assistant Secretary for Research and Technology | Special Assistant for Research and Technology | DT190105 | 06/28/2019
| Office of Public Affairs | Digital Media Manager | DT190107 | 06/28/2019
| Office of the Secretary | Special Assistant | DT190089 | 06/18/2019
|  | Special Assistant for Advance | DT190098 | 06/28/2019
|  | Director of Scheduling and Advance | DT190101 | 06/28/2019
| Office of the Under Secretary of Transportation for Policy | Senior Policy Advisor | DT190104 | 06/20/2019
DEPARTMENT OF THE TREASURY | Office of the Assistant Secretary (Public Affairs) | Special Assistant Public Affairs Specialist | DY190073 DY190077 | 06/06/2019 06/13/2019
|  | Director, Public Affairs | DY190082 | 06/25/2019
| Secretary of the Treasury | Director of Scheduling and Advance | DY190085 | 06/25/2019
UNITED STATES INTERNATIONAL TRADE COMMISSION | Office of Commissioner Kearns | Confidential Assistant | TC190004 | 06/10/2019

The following Schedule C appointing authorities were revoked during June 2019.

Agency name | Organization name | Position title | Request No. | Date vacated
DEPARTMENT OF COMMERCE | Office of Advance, Scheduling and Protocol | Advance Assistant | DC180180 | 06/08/2019
| Office of Executive Secretariat | Deputy Director, Office of Executive Secretariat | DC180190 | 06/08/2019
| Office of the Director | Special Advisor | DC170169 | 06/08/2019
| Office of Minority Business Development Agency | Special Advisor for Strategic Initiatives | DC190018 | 06/13/2019
OFFICE OF THE SECRETARY OF DEFENSE | Office of the Secretary of Defense | Special Assistant | DD190119 | 06/01/2019
| Office of the Assistant Secretary of Defense (International Security Affairs) | Special Assistant to the Deputy Assistant Secretary of Defense for African Affairs | DD180002 | 06/08/2019
| Office of the Secretary of Defense | Speechwriter | DD180085 | 06/08/2019
| Office of the Under Secretary of Defense (Policy) | Special Assistant (2) | DD180089 DD180088 | 06/22/2019 06/08/2019
| Office of the Assistant Secretary of Defense (Asian and Pacific Security Affairs) | Special Assistant to Deputy Assistant of Defense (South and Southeast Asia) | DD170219 | 06/15/2019
DEPARTMENT OF EDUCATION | Office of Planning, Evaluation and Policy Development | Special Assistant | DB180058 | 06/08/2019
| Office of the Secretary | Confidential Assistant | DB190003 | 06/08/2019
| Office of Elementary and Secondary Education | Confidential Assistant | DB190037 | 06/15/2019
| Office of Postsecondary Education | Special Assistant | DB190005 | 06/15/2019
| Office of the General Counsel | Attorney Advisor | DB190033 | 06/22/2019
DEPARTMENT OF HEALTH AND HUMAN SERVICES | Office of the Assistant Secretary for Legislation | Senior Deputy Director of Oversight and Investigations | DH180253 | 06/10/2019
| Office of Intergovernmental and External Affairs | Special Assistant | DH180162 | 06/11/2019
| Office of the Assistant Secretary for Public Affairs | Senior Advisor and National Spokesperson | DH180108 | 06/12/2019
| Office of the Secretary | White House Liaison for Political Personnel, Boards and Commissions | DH180198 | 06/14/2019
|  | Policy Advisor | DH180176 | 06/17/2019
DEPARTMENT OF HOUSING AND URBAN DEVELOPMENT | Office of Congressional and Intergovernmental Relations | Deputy Assistant Secretary for Congressional Relations | DU180051 | 06/22/2019
DEPARTMENT OF STATE | Office of the Chief of Protocol | Protocol Officer (Ceremonials) | DS170178 | 06/14/2019
DEPARTMENT OF TRANSPORTATION | Office of Civil Rights | Senior Advisor | DT180064 | 06/08/2019
| Office of the Secretary | Special Assistant for Strategic Initiatives | DT190009 | 06/08/2019
EXPORT-IMPORT BANK | Office of the Chief of Staff | Executive Secretary | EB180009 | 06/08/2019
| Office of the Executive Vice President and Chief Operating Officer | Advisor to the Chief Operating Officer | EB180008 | 06/08/2019
GENERAL SERVICES ADMINISTRATION | Office of the Administrator | Special Assistant | GS190007 | 06/18/2019
OFFICE OF PERSONNEL MANAGEMENT | Office of Communications | Assistant Director of Communications for Policy and Operations | PM190022 | 06/08/2019
| Office of the Director | Confidential Assistant to the Deputy Director | PM180046 | 06/08/2019
SECURITIES AND EXCHANGE COMMISSION | Office of the Chairman | Confidential Assistant (2) | SE180003 SE170001 | 06/07/2019 06/08/2019
SMALL BUSINESS ADMINISTRATION | Office of the General Counsel | Deputy General Counsel | SB170064 | 06/08/2019

Authority: 5 U.S.C. 3301 and 3302; E.O. 10577, 3 CFR, 1954-1958 Comp., p. 218.

U.S. Office of Personnel Management.
Stephen Hickman,
Regulatory Affairs Analyst.

[FR Doc. 2019-23062 Filed 10-22-19; 8:45 am]

BILLING CODE 6325-39-P